DEPARTMENT OF TRANSPORTATION

14 CFR Part 71

[Docket No. FAA-2003-15876; Airspace Docket No. 03-AGL-14]

Modification of Class E Airspace; Zanesville, OH; Correction

AGENCY: Federal Aviation Administration (FAA), DOT.

ACTION: Final rule; correction.

SUMMARY: This action corrects an error contained in a final rule that was published in the Federal Register on Wednesday, December 24, 2003 (68 FR 74476). The final rule modified Class E airspace at Zanesville, OH.

DATES: Effective Date: 0901 UTC, August 5, 2004.

FOR FURTHER INFORMATION CONTACT: Patricia A. Graham, Air Traffic Division, Airspace Branch, AGL-520, Federal Aviation Administration, 2300 East Devon Avenue, Des Plaines, IL 60018, telephone: (847) 294-7477.

SUPPLEMENTARY INFORMATION:

History

Federal Register Document 03-31736 published on Wednesday, December 24, 2003 (68 FR 74476), modified Class E airspace at Zanesville, OH. A radius of Class E airspace around a point of space, was left out of the docket's legal description. This action corrects this error.

Accordingly, pursuant to the authority delegated to me, the error for the Class E airspace, Zanesville, OH, as published in the Federal Register Wednesday, December 24, 2003, (68 FR 74476), (FR Doc. 03-31736), is corrected as follows:

§ 71.1 [Corrected]

1. On page 74477, Column 2; in the legal description, after the words: “southwest of the VOR/DME”, and before the word: “excluding”, add: “and within a 6-mile radius of the point in space serving the Bethesda Hospital,”.

Issued in Des Plaines, Illinois, on May 19, 2004.
Nancy B. Shelton,
Manager, Air Traffic Division, Great Lakes Region.

[FR Doc. 04-12978 Filed 6-8-04; 8:45 am]

BILLING CODE 4910-13-M